DEPARTMENT OF LABOR

Employment and Training Administration

[TA-W-64,292]

PHB Die Casting a Subsidiary of PHB, Inc., Including On-Site Leased Workers From Career Concepts and Volt Services, Including a Contract Worker From Burns Industrial Group (BIG INC) Fairview, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 19, 2008, applicable to workers of PHB Die Casting, a subsidiary of PHB, Inc., including on-site leased workers from Career Concepts and Volt Services, Fairview, Pennsylvania. The notice was published in the Federal Register on January 14, 2009 (74 FR 2136).

At the request of the State agency, the Department reviewed the certification for workers of the subject firm. The workers are engaged in the production of die castings.

New information shows that a worker from Burns Industrial Group (BIG Inc) was contracted to provide various sales services at the Fairview, Pennsylvania location of PHB Die Casting, a subsidiary of PHB, Inc. The Department has determined that this worker was sufficiently under the control of the subject firm to be considered a contact worker.

Based on these findings, the Department is amending this certification to include a worker from Burns Industrial Group (BIG Inc) who was contracted by the Fairview, Pennsylvania location of PHB Die Casting, a subsidiary of PHB, Inc.

The amended notice applicable to TA-W-64,292 is hereby issued as follows:

All workers of PHB Die Casting, a subsidiary of PHB, Inc., Fairview, Pennsylvania, including on-site leased workers from Career Concepts and Volt Services, and including a contract worker from Burns Industrial Group (BIG Inc), who became totally or partially separated from employment on or after October 27, 2007, through December 19, 2010, are eligible to apply for adjustment assistance under Section 223 of the Trade Act of 1974, and are also eligible to apply for alternative trade adjustment assistance under Section 246 of the Trade Act of 1974.

Signed at Washington, DC this 30th day of January 2012.
Del Min Amy Chen,
Certifying Officer, Office of Trade Adjustment Assistance.

[FR Doc. 2012-2887 Filed 2-7-12; 8:45 am]

BILLING CODE 4510-FN-P